DEPARTMENT OF AGRICULTURE

Forest Service

Idaho (Boise, Caribou-Targhee, Salmon-Challis, and Sawtooth National Forests and Curlew National Grassland); Nevada (Humboldt-Toiyabe National Forest); Utah (Ashley, Dixie, Fishlake, Manti-La Sal, and Uinta-Wasatch-Cache National Forests); Wyoming (Bridger-Teton National Forest); and Wyoming/Colorado (Medicine Bow-Routt National Forest and Thunder Basin National Grassland); Amendments to Land Management Plans for Greater Sage-Grouse Conservation

AGENCY: Forest Service, USDA.

ACTION: Notice to extend the public scoping period for supplemental notice of intent to prepare an environmental impact statement; notice of updated information concerning the Forest Service greater sage-grouse land and resource management plan amendments; correction.

SUMMARY: The USDA Forest Service is issuing this notice to advise the public of a 14-day extension to the public scoping period on the supplemental notice of intent to prepare an environmental impact statement for the amendments to land management plans for greater sage-grouse conservation.

DATES: Comments concerning the scope of the analysis must be received by August 15, 2018.

ADDRESSES: Send written comments to Sage-grouse Amendment Comment, USDA Forest Service Intermountain Region, Federal Building, 324 25th Street, Ogden, UT 84401.

Comments may also be sent via email to, comments-intermtn-regional-office@fs.fed.us, or via facsimile to 801-625-5277.

FOR FURTHER INFORMATION CONTACT: John Shivik at 801-625-5667 or email johnashivik@fs.fed.us. Individuals who use telecommunication devices for the deaf (TDD) may call the Federal Information Relay Service (FIRS) at 1-800-877-8339 between 8 a.m. and 8 p.m., Eastern Time, Monday through Friday.

SUPPLEMENTARY INFORMATION: The original corrected notice of intent for public comment on the greater sage-grouse plan amendments was published in the Federal Register on July 2, 2018 (83 FR 30909). The original notice of intent provided a 30 day comment period, which may be insufficient for comment preparation from all interested parties. As such, the comment period for the original notice is being extended by 14 days.

If the Forest Service amends land management plans, we hereby give notice that substantive requirements of the 2012 Planning Rule (36 CFR part 219) that are likely to be directly related, and therefore applicable, to the amendments are in sections 219.8(a) and (b) (ecological and social and economic sustainability), 219.9 (diversity of plant and animal communities), and 219.10(a) (integrated resource management for ecosystem services and multiple use).

The public is encouraged to help identify any issues, management questions, or concerns that should be addressed in plan amendment(s) or policy or administrative action. The Forest Service will work collaboratively with interested parties to identify the management direction that is best suited to local, regional, and national needs and concerns. The Forest Service will use an interdisciplinary approach as it considers the variety of resource issues and concerns.

Dated: July 26, 2018.
Chris French,
Associate Deputy Chief, National Forest System.

[FR Doc. 2018-16556 Filed 7-31-18; 8:45 am]

BILLING CODE 3411-15-P